ENVIRONMENTAL PROTECTION AGENCY

40 CFR Part 50

[FRL-8199-7; Docket ID No. EPA-HQ-OAR-2001-0017]

Availability of Additional Information Related to the Review of the National Ambient Air Quality Standards for Particulate Matter

AGENCY: Environmental Protection Agency (EPA).

ACTION: Notice of data availability.

SUMMARY: The EPA is providing notice that it has placed in the docket for the review of the national ambient air quality standards (NAAQS) for particulate matter (PM) (Docket No. EPA-HQ-OAR-2001-0017) additional information relevant to the rulemaking. See 71 FR 2620 (Jan. 17, 2006) (proposing revisions to those standards). Specifically, this notice announces the availability of an EPA report, “Provisional Assessment of Recent Studies on Health Effects of Particulate Matter Exposure” (provisional assessment) (EPA/600/R-06/063), which presents EPA's survey and provisional assessment of studies relevant to assessing the health effects of PM that were published too recently to be included in the 2004 PM Air Quality Criteria Document.

DATES: The provisional assessment document will be placed in the PM NAAQS docket on or about July 21, 2006.

FOR FURTHER INFORMATION CONTACT: Dr. Mary Ross, National Center for Environmental Assessment (B243-01), U.S. Environmental Protection Agency, Research Triangle Park, NC 27711; telephone: 919-541-5170; e-mail: ross.mary@epa.gov.

SUPPLEMENTARY INFORMATION:

A. Background

On January 17, 2006, EPA published a proposed rule to make revisions to the primary and secondary NAAQS for PM to provide requisite protection of public health and welfare (71 FR 2620). The proposed decisions separately addressed fine and coarse particles. These proposed decisions were based on: a thorough review of the scientific information on known and potential human health and welfare effects associated with exposure to these subclasses of PM at levels typically found in the ambient air as presented in the Air Quality Criteria Document (henceforth, the “Criteria Document”) (two volumes, EPA/600/P-99/002aF and EPA/600/P-99/002bF, October 2004); staff assessments presented in the Review of the National Ambient Air Quality Standards for Particulate Matter: Assessment of Scientific and Technical Information (henceforth, the “Staff Paper”) (EPA-452/R-05-005a, December 2005); Clean Air Scientific Advisory Committee (CASAC) advice and recommendations, as reflected in the CASAC's letters to the Administrator, discussions of the drafts of the Criteria Document and Staff Paper at public meetings, and separate written comments prepared by individual members of the CASAC PM Review Panel; and public comments received during the development of these documents, either in connection with CASAC meetings or separately.

In the preamble to the proposed rule, EPA acknowledged that a number of new scientific studies on the health effects on PM had been published recently that were not included in the Criteria Document. See 71 FR at 2625. In order to ensure that the Administrator is fully aware of the new science that has developed since the cutoff date before making a final decision on whether to revise the current PM NAAQS, EPA conducted a provisional assessment of relevant new studies. EPA screened and surveyed the recent literature, including studies submitted during the public comment period on the proposed rule, and conducted a provisional assessment that places the results of those studies of potentially greatest policy relevance in the context of the findings of the 2004 Criteria Document. The focus of the provisional assessment was on: (a) epidemiological studies conducted in the U.S. or Canada that assessed exposures to PM2.5 and/or PM10-2.5 and (b) toxicology or epidemiology studies that compared the effects of PM from different sources, PM components, or size fractions.

The provisional assessment of the new PM science is presented in a document prepared by the National Center for Environmental Assessment (NCEA) within EPA's Office of Research and Development, entitled “Provisional Assessment of Recent Studies on Health Effects of Particulate Matter Exposure” (EPA/600/R-06/063, June 2006). The following section of this notice describes how to obtain copies of this document.

B. How Can I Get a Copy of This Document?

1. Docket. EPA has established a docket for the current review of the PM NAAQS under Docket ID No. EPA-HQ-OAR-2001-0017. The document entitled “Provisional Assessment of Recent Studies on Health Effects of Particulate Matter Exposure” (EPA/600/R-06/063) will be placed in this docket. Publicly available docket materials are available either electronically through http://www.regulations.gov or in hard copy at the Air and Radiation Docket and Information Center, EPA/DC, Room B102 EPA West, 1301 Constitution Ave., NW., Washington, DC. The Public Reading Room is open from 8:30 a.m. to 4:30 p.m. Monday through Friday, excluding legal holidays. The telephone number for the Public Reading Room is 202-566-1744 and the telephone number for the Air and Radiation docket and Information Center is 202-566-1742.

2. Electronic Access. You may access this document at http://www.epa.gov/air/particlepollution/actions.html or on the NCEA home page under the “Recent Additions” and “Data and Publications” menus at http://www.epa.gov/ncea.

List of Subjects in 40 CFR Part 50

Environmental protection, Air pollution control, Carbon monoxide, Lead, Nitrogen dioxide, Ozone, Particulate matter, Sulfur oxides.

Dated: July 7, 2006.
Peter W. Preuss,
Director, National Center for Environmental Assessment.

[FR Doc. E6-11621 Filed 7-20-06; 8:45 am]

BILLING CODE 6560-50-P